DEPARTMENT OF COMMERCE

International Trade Administration

15 CFR Parts 335 and 340

[Docket No. 050406093-5259-02]

RIN 0625-AA67

Imports of Certain Worsted Wool Fabric: Implementation of Tariff Rate Quota Established Under Title V of the Trade and Development Act of 2000

ACTION: Final rule.

SUMMARY: The Department of Commerce publishes this final rule to adopt, without change, an interim final rule that implemented tariff rate quotas (TRQ) for a limited quantity of worsted wool fabrics pursuant to Title V of the Trade and Development Act of 2000 (“the Act”) as amended by the Trade Act of 2002 and the Miscellaneous Trade Act of 2004, (Pub. L. 108-429). Section 501(e) of the Act requires the President to fairly allocate TRQs on the import of certain worsted wool fabric. Section 504(b) of the Act authorizes the President to modify the limitations on worsted wool fabric imports under TRQs. The President has delegated to the Secretary of Commerce the authority to allocate the quantity of imports under the TRQs (specifically for wool products under HTS headings, 9902.51.11 and 9902.51.12) and to determine whether the limitations on the quantity of imports under the TRQs should be modified. This rule is necessary to implement the amendment to the Act included in the Miscellaneous Trade Act of 2004, (Pub. L. 108-429), which specifies which HTS categories may be allocated as TRQs and which eliminates Commerce's authority to modify these quotas.

DATES: This final rule is effective October 24, 2005.

FOR FURTHER INFORMATION CONTACT: Sergio Botero, Office of Textiles and Apparel, U.S. Department of Commerce, (202) 482-4058.

SUPPLEMENTARY INFORMATION:

Background

The Act created Harmonized Tariff Schedule of the United States (HTS) heading 9902.51.11 and HTS heading 9902.51.12, which establish two TRQs, providing for temporary reductions for three years in the import duties on two categories of worsted wool fabrics suitable for use in making suits, suit-type jackets, or trousers: (1) For worsted wool fabric with average fiber diameters greater than 18.5 microns, the reduction in duty is limited to 2,500,000 square meter equivalents or such other quantity proclaimed by the President; and (2) for worsted wool fabric with average fiber diameters of 18.5 microns or less, the reduction is limited to 1,500,000 square meter equivalents or such other quantity proclaimed by the President, respectively. The Act required that the TRQs be allocated. More specifically, the President must ensure that the TRQs are fairly allocated to persons (including firms, corporations, or other legal entities) who cut and sew men's and boys' worsted wool suits, suit-type jackets and trousers in the United States and who apply for an allocation based on the amount of such suits cut and sewn during the prior calendar year.

The Act required that the President annually consider requests by U.S. manufacturers of certain worsted wool apparel to modify the limitation on the quantity of fabric that may be imported under the TRQs, and granted the President the authority to proclaim modifications to the limitations. In determining whether to modify the limitations, the President must consider specified U.S. market conditions with respect to worsted wool fabric and worsted wool apparel.

In Presidential Proclamation 7383, of December 1, 2000, the President authorized the Secretary of Commerce: (1) To allocate the imports of worsted wool fabrics under the TRQs; (2) to annually consider requests from domestic manufacturers of worsted wool apparel to modify the limitation on the quantity of worsted wool fabrics that may be imported under the TRQs; (3) to determine whether the limitations on the quantity of imports of worsted wool fabrics under the TRQs should be modified and to recommend to the President that appropriate modifications be made; and (4) to issue regulations to implement relevant provisions of the Act.

On December 3, 2004, the Act was amended pursuant to the Miscellaneous Trade Act of 2004, Public Law 108-429. The amendment altered the HTS categories of worsted wool eligible for the TRQs under the Act. Specifically, the amendment renumbered HTS heading 9902.51.12 to HTS heading 9902.51.15. The Miscellaneous Trade Act of 2004 also increased to 5 million square meters from 3.5 million square meters the TRQ for worsted wool fabrics with average fiber diameters of 18.5 microns or less (HTS 9902.51.15, previously numbered HTS 9902.51.12); and increased to 5.5 million square meters from 4.5 million square meters the TRQ for the worsted wool fabrics with average fiber diameters greater than 18.5 microns (9902.51.11).

The amendment also authorized Commerce to allocate a new HTS category, HTS 9902.51.16. This HTS refers to worsted wool fabric with average fiber diameters of 18.5 microns or less. The amendment further specified that HTS 9902.51.16 is for worsted wool for the benefit of persons (including firms, corporations, or other legal entities) who weave worsted wool fabric in the United States.

Finally, the Miscellaneous Trade Act of 2004, Public Law 108-429, repealed Commerce's authorization to determine whether the limitations on the quantity of imports of worsted wool fabrics under the TRQs should be modified and to recommend to the President that appropriate modifications be made.

On May 16, 2005, the International Trade Administration published an Interim Final Rule that implemented the new HTS categories and allocation system and that removed Commerce's authorization to modify the limitation on the quantity of imports of worsted wool fabrics. The interim regulations were effective upon publication to allow TRQ recipients to import their products under the new HTS categories and allocation system.

Public Comments

While the interim regulations became effective on May 16, 2005, the Department of Commerce solicited comments on the interim regulations and expressed particular interest in comments concerning any impact the regulations might have on small or medium sized businesses. The public comment period closed on July 15, 2005. The Department did not receive any comments on the interim regulations.

Action Being Taken by the Department of Commerce

The Department of Commerce is adopting without change the interim final rule that became effective May 16, 2005. Title 15, Part 335 of the Code of Federal Regulations sets forth regulations regarding the issuance and effect of licenses for the allocation of worsted wool fabric under the tariff rate quotas established by Section 501 of the Act. Part 340 of the same title is removed.

Classification

Executive Order 12866

This rule has been determined to be not significant under Executive Order 12866

Paperwork Reduction Act

This proposed rule contains a collection-of-information requirement subject to the Paperwork Reduction Act (PRA), which has received approval by OMB under control number 0625-0240. Notwithstanding any other provision of the law, no person is required to respond to, nor shall any person be subject to a penalty for failure to comply with, a collection of information subject to the requirements of the PRA, unless that collection of information displays a currently valid OMB Control Number.

Dated: October 18, 2005.
James C. Leonard III,
Deputy Assistant Secretary for Textiles and Apparel.

PART 335—IMPORTS OF WORSTED WOOL FABRICS AND PART 340—MODIFICATION OF THE TARIFF RATE QUOTA LIMITATION ON WORSTED WOOL FABRIC IMPORTS

Accordingly, the interim rule that amends 15 CFR part 335 and removes 15 CFR part 340, which was published at 70 FR 25774 on May 16, 2005, is adopted as final rule without change.

[FR Doc. 05-21215 Filed 10-21-05; 8:45 am]

BILLING CODE 3510-DS-P